SECURITIES AND EXCHANGE COMMISSION

[Release No. 35-27702]

Filings Under the Public Utility Holding Company Act of 1935, As Amended (“Act”)

July 24, 2003.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by August 18, 2003, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After August 18, 2003, the application(s) and/or declaration(s), as filed or as amended, may be granted and/or permitted to become effective.

Entergy Mississippi, Inc. (70-9757)

Entergy Mississippi, Inc. (“EM”), 308 Pearl Street, Jackson, Mississippi 39201, an electric utility subsidiary of Entergy Corporation, a public utility holding company registered under the Act, has filed a post effective amendment to an application-declaration previously filed under sections 6(a), 7, 9(a), 10, and 12(d) of the Act and rules 44 and 53 under the Act.

By order dated December 26, 2000 (HCAR No. 27317) (“2000 Order”), EM was authorized, among other things, to issue and sell up to $540 million of EM's first mortgage bonds (“Bonds”) and/or EM's debentures (“Debentures”) through December 31, 2003 (“Authorization Period”) with fees and commissions associated with the sale of Bonds or Debentures not to exceed 2% of the principle amount to be sold. By order dated October, 2, 2002 (HCAR No. 27527) (“2002 Order”), EM was authorized to increase the amount of fees and commissions associated with the sale of Bonds or Debentures to 3.25% of the principle amount to be sold.

EM now proposes to increase the aggregate limit of Bonds and/or Debentures it may issue to $740 million through the Authorization Period under the same terms and conditions as those granted in the 2000 Order and the 2002 Order. EM states that the use of proceeds from the additional issuance will be used to prefund certain series of near-term maturing debt and refund certain series of longer-term maturing debt early.

For the Commission by the Division of Investment Management, pursuant to delegated authority.
J. Lynn Taylor,
Assistant Secretary.

[FR Doc. 03-19328 Filed 7-29-03; 8:45 am]

BILLING CODE 8010-01-P